DEPARTMENT OF HEALTH AND HUMAN SERVICES

National Institutes of Health

Submission for OMB Review; Comment Request; The STAR METRICS Program

Summary: Under the provisions of Section 3507(a)(1)(D) of the Paperwork Reduction Act of 1995, the Office of the Director of the National Institutes of Health (NIH) has submitted to the Office of Management and Budget (OMB) a request for review and approval of the information collection listed below. The purpose of this notice is to allow an additional 30 days for public comment. The National Institutes of Health may not conduct or sponsor, and the respondent is not required to respond to, an information collection that has been extended, revised, or implemented on or after October 1, 1995, unless it displays a currently valid OMB control number.

Proposed Collection: Title: STAR METRICS.

Science and Technology for America's Reinvestment: Measuring the Effects of Research on Innovation, Competitiveness and Science. Type of Information Collection Request: NEW. Need and Use of Information Collection: The aim of STAR METRICS is twofold. The initial goal of STAR METRICS is to provide mechanisms that will allow participating universities and Federal agencies with a reliable and consistent means to account for the number of scientists and staff that are on research institution payrolls, supported by Federal funds. In subsequent generations of the program, it is hoped that STAR METRICS will allow for measurement of science impact on economic outcomes (such as job creation), on knowledge generation (such as citations and patents) as well as on social and health outcomes.

Frequency of Response: Quarterly.

Affected Public: Universities.

Type of Respondents: University administrators.

Estimated Number of Respondents: 100.

Estimated Number of Responses per Respondent: 4.

Average Burden Hours per Response: Reduced by 156; and

Estimated Total Annual Burden Hours Requested: Reduced by 15,600.

The annualized cost to respondents is estimated to be reduced by $780,000. There are no Capital Costs to report. There are no Operating or Maintenance Costs to report.

A.12—1 Estimates of Net Hour Burden Reduction
Type of respondents | Number of respondents | Frequency of response | Average time per response (in hours) | Annual hour burden
Stage 1: Immediate | 100 | 1 | 72 | +7200
Stage 1: Expected Reduction in Current burden (assuming 100 universities and at median) | 100 | 4 | 40 | −16000
Net reduction in burden | 100 | 4 |  | −8800
Stage 1: Future | 100 | 4 | 1.0 | +400
Stage 2: Expected Reduction in Current burden (assuming 100 universities and at median) | 100 | 4 | 40 | −16000
Net reduction in burden | 100 | 4 |  | −15600

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Dr. Stefano Bertuzzi, MSC 0166, Building 1 Room 218, 9000 Rockville Pike, Bethesda, MD 20892, or call non-toll-free number 301-496-9286 or E-mail your request, including your address to: Stefano.bertuzzi@nih.gov.

Comments Due Date: Comments regarding this information collection are best assured of having their full effect if received within 30-days of the date of this publication.

Dated: June 2, 2010.
Laverne Stringfield,
Executive Officer, Office of the Director, National Institutes of Health.

[FR Doc. 2010-13736 Filed 6-7-10; 8:45 am]

BILLING CODE 4140-01-P